DEPARTMENT OF COMMERCE

International Trade Administration

[A-588-869]

Diffusion-Annealed, Nickel-Plated Flat-Rolled Steel Products From Japan: Continuation of Antidumping Order

AGENCY: Enforcement and Compliance, International Trade Administration, Department of Commerce.

SUMMARY: As a result of the determinations by the Department of Commerce (Commerce) and the International Trade Commission (ITC) that revocation of the antidumping duty (AD) order on diffusion-annealed, nickel-plated flat-rolled steel products from Japan would likely lead to continuation or recurrence of dumping and material injury to an industry in the United States, Commerce is publishing a notice of continuation of this AD order.

DATES: Applicable October 9, 2019.

FOR FURTHER INFORMATION CONTACT: Ian Hamilton, Office II, AD/CVD Operations, Enforcement and Compliance, International Trade Administration, U.S. Department of Commerce, 1401 Constitution Avenue NW, Washington, DC 20230; telephone: (202) 482-4798.

SUPPLEMENTARY INFORMATION:

Background

On May 29, 2014, Commerce published its antidumping duty order on diffusion-annealed, nickel-plated flat-rolled steel products from Japan in the Federal Register.¹ On April 1, 2019, the ITC instituted,² and Commerce initiated,³ the first sunset review of the antidumping duty order on diffusion-annealed, nickel-plated flat-rolled steel products from Japan, pursuant to section 751(c) of the Tariff Act of 1930, as amended (the Act). As a result of its review, Commerce determined that revocation of the Order on diffusion-annealed, nickel-plated flat-rolled steel products from Japan would likely lead to continuation or recurrence of dumping and notified the ITC of the magnitude of the margins of dumping likely to prevail were the orders revoked.⁴

¹ See Diffusion-Annealed, Nickel-Plated Flat-Rolled Steel Products from Japan: Antidumping Duty Order, 79 FR 30816 (May 29, 2014) (Order).

² See Diffusion-Annealed Nickel-Plated Flat-Rolled Steel Products from Japan: Institution of Five-Year Review, 84 FR 12282 (April 1, 2019).

³ See Initiation of Five-Year (Sunset) Review, 84 FR 12227 (April 1, 2019).

⁴ See Diffusion-Annealed Nickel-Plated Flat-Rolled Steel Products from Japan: Final Results of the Expedited First Five-Year Sunset Review of the Antidumping Duty Order, 84 FR 38001 (August 5, 2019), and accompanying Issues and Decision Memorandum.

On October 2, 2019, the ITC published its determination, pursuant to sections 751(c) and 752(a) of the Act, that revocation of the Order would likely lead to continuation or recurrence of material injury to an industry in the United States within a reasonably foreseeable time.⁵

⁵ See Diffusion-Annealed Nickel-Plated Flat-Rolled Steel Products from Japan (Inv. No. 731-TA-1206 (Review)), 84 FR 52534 (October 2, 2019); see also Diffusion-Annealed, Nickel-Plated Flat-Rolled Steel Products from Japan (Inv. No. 731-TA-1206 (Review), USITC Publication 4971, September 2019).

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. Although the HTSUS subheadings are provided for convenience and customs purposes, the written description of the scope of this order is dispositive.

Continuation of the Order

As a result of the determinations by Commerce and the ITC that revocation of the Order would likely lead to a continuation or a recurrence of dumping and of material injury to an industry in the United States, pursuant to section 751(d)(2) of the Act and 19 CFR 351.218(a), Commerce hereby orders the continuation of the Order. U.S. Customs and Border Protection (CBP) will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next five-year review of the Order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

This five-year (sunset) reviews and this notice are in accordance with sections 751(c) and (d)(2) of the Act and published in accordance with section 777(i) of the Act, and 19 CFR 351.218(f)(4).

Dated: October 2, 2019.
P. Lee Smith
Deputy Assistant Secretary for Policy and Negotiations Enforcement and Compliance.

[FR Doc. 2019-22055 Filed 10-8-19; 8:45 am]

BILLING CODE 3510-DS-P